DEPARTMENT OF AGRICULTURE

Animal and Plant Health Inspection Service

[Docket No. APHIS-2020-0063]

Notice of Proposed Revision To Import Requirements for the Importation of Fresh Sand Pears From the Republic of Korea Into the United States

AGENCY: Animal and Plant Health Inspection Service, USDA.

ACTION: Notice.

SUMMARY: We are advising the public that we have prepared a pest risk analysis relative to the importation into the United States of sand pear (Pyrus pyrifolia var. culta) fruit from the Republic of Korea. Currently, sand pear fruit may be imported into the United States from the Republic of Korea under an Animal and Plant Health Inspection Service preclearance program or as non-precleared fruit into the port of Honolulu, HI. Based on the findings of our analysis, we are proposing to authorize imports of non-precleared sand pear fruit from the Republic of Korea into all U.S. ports as an alternative to the preclearance program. All sand pear fruit intended for importation into the United States from the Republic of Korea would be subject to a systems approach currently required for precleared fruit. We are making the pest risk analysis available to the public for review and comment.

DATES: We will consider all comments that we receive on or before May 14, 2021.

ADDRESSES: You may submit comments by either of the following methods:

• Federal eRulemaking Portal: Go to www.regulations.gov. Enter APHIS-2020-0063 in the Search field. Select the Documents tab, then select the Comment button in the list of documents.

• Postal Mail/Commercial Delivery: Send your comment to Docket No. APHIS-2020-0063, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Specialist, Regulatory Coordination and Compliance, Imports, Regulations, and Manuals, PPQ, APHIS, 4700 River Road, Unit 133, Riverdale, MD 20737-1231; (301) 851-2352.

SUPPLEMENTARY INFORMATION: Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the new importation of fruits and vegetables into the United States, as well as revising existing requirements for the importation of fruits and vegetables. Paragraph (c) of that section provides that the name and origin of all fruits and vegetables authorized importation into the United States, as well as the requirements for their importation, are listed in the APHIS Fruits and Vegetables Import Requirements database (FAVIR) (https://epermits.aphis.usda.gov/manual/). It also provides that, if the Administrator determines that any of the phytosanitary measures required for the importation of a particular fruit or vegetable are no longer necessary to reasonably mitigate the plant pest risk posed by the fruit or vegetable, APHIS will publish a notice in the Federal Register making its pest risk analysis and determination available for public comment.

Pyrus pyrifolia var. culta (sand pear) fruit from the Republic of Korea is currently listed in FAVIR as a fruit authorized for importation into the continental United States under an APHIS-managed preclearance program; non-precleared fruit is authorized for importation only into the port of Honolulu, HI. In addition, all sand pear fruit produced in the Republic of Korea for export to the United States must be grown, processed, and shipped under a systems approach detailed in an operational workplan.

The Republic of Korea requested that APHIS conduct a risk evaluation to allow exports of non-precleared sand pear fruit into all U.S. ports, in addition to the exports already allowed under the APHIS preclearance program. In response, we reviewed the current pest list for sand pear fruit from the Republic of Korea and added a new quarantine pest of concern, Resseliella yagoi, to the existing list.

Using the updated pest list, we drafted a commodity import evaluation document (CIED) to identify phytosanitary measures that could be applied to the importation of sand pear fruit from the Republic of Korea to mitigate the risk posed by quarantine pests of concern. We included in the CIED our finding that the current systems approach to mitigate pest risk in precleared sand pear fruit would also be sufficient to allow the importation of non-precleared fruit from the Republic of Korea into all U.S. ports. Under the change we propose, the oversight of production practices, fruit inspections, and phytosanitary certification of non-precleared sand pear fruit would be conducted by the Republic of Korea national plant protection organization (NPPO) rather than by APHIS preclearance personnel.

The following systems approach measures would be required for all sand pear fruit imported into the United States from the Republic of Korea:

• Sand pears must be imported as commercial consignments only.

• Sand pears must be grown in places of production and packed in packinghouses registered with the Republic of Korea NPPO.

• Places of production must be inspected for symptoms of quarantine pests and diseases. If such pests and diseases are found, adequate mitigations measures should be implemented.

• Sand pears must be bagged when the fruit is between 2.5 and 3.5 centimeters in diameter. All fruit must be bagged by June 30. Bagging is required to prevent all arthropod pests from infesting the fruits.

• Each sand pear consignment must be labeled to allow trace back.

• Each sand pear consignment must be accompanied by a phytosanitary certificate issued by the Republic of Korea NPPO stating that the consignment has been inspected and found free of quarantine pests.

For preclearance program exports of sand pear:

• Each precleared consignment must be accompanied by a Plant Protection and Quarantine Form 203, which indicates the commodity has been inspected by APHIS at origin.

For non-preclearance exports of sand pear:

• Each non-precleared consignment is subject to inspection at the U.S. ports-of-entry.

Therefore, in accordance with § 319.56-4(c)(3), we are announcing the availability of our pest list and CIED for public review and comment. Those documents, as well as a description of the economic considerations associated with the importation of fresh sand pear fruit from the Republic of Korea, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to revise the requirements for the importation of sand pear fruit from the Republic of Korea in a subsequent notice. If the overall conclusions of our analysis and the Administrator's determination of risk remain unchanged following our consideration of the comments, we will revise the requirements for the importation of sand pear fruit from the Republic of Korea in accordance with this notice.

Authority: 7 U.S.C. 1633, 7701-7772, and 7781-7786; 21 U.S.C. 136 and 136a; 7 CFR 2.22, 2.80, and 371.3.

Done in Washington, DC, this 9th day of March 2021.
Mark Davidson,
Acting Administrator, Animal and Plant Health Inspection Service.

[FR Doc. 2021-05273 Filed 3-12-21; 8:45 am]

BILLING CODE 3410-34-P